DEPARTMENT OF EDUCATION

Announcement of Public Hearing; Title IX of the Education Amendments of 1972

AGENCY: Office for Civil Rights, U.S. Department of Education.

ACTION: Notice.

SUMMARY: The U.S. Department of Education's Office for Civil Rights (OCR) announces a virtual public hearing to gather information for the purpose of improving enforcement of Title IX of the Education Amendments of 1972 (Title IX). OCR seeks comments from the public at the hearing on steps the Department can take to ensure that schools are providing students with educational environments free from discrimination in the form of sexual harassment, which encompasses sexual assault and other forms of sexual violence; to ensure that schools have grievance procedures that provide for the fair, prompt, and equitable resolution of reports of sexual harassment and other sex discrimination, cognizant of the sensitive issues that are often involved; and to address discrimination based on sexual orientation and gender identity in educational environments. This notice provides information to members of the public regarding the hearing and OCR's request for live and written comments, and sets forth the dates and times, agenda, and instructions for attending this public hearing.

DATES: The dates and times when the public hearing will take place are listed under the SUPPLEMENTARY INFORMATION section of this document.

ADDRESSES: The Title IX public hearing will be held virtually. See the SUPPLEMENTARY INFORMATION section below for information on how to register to provide live comments during the hearing, how to submit written comments, and how to attend the hearing to listen to comments from others.

FOR FURTHER INFORMATION CONTACT: Alejandro Reyes, Director, Program Legal Group, Office for Civil Rights. Telephone: (202) 245-7272. Email: Alejandro.Reyes@ed.gov.

If you use a telecommunications device for the deaf (TDD) or a text telephone (TTY), call the Federal Relay Service (FRS), toll free, at 1-800-877-8339.

SUPPLEMENTARY INFORMATION: Background: OCR is conducting this hearing pursuant to Executive Order 14021, Guaranteeing an Educational Environment Free from Discrimination on the Basis of Sex, Including Sexual Orientation or Gender Identity, published in the Federal Register on March 11, 2021 (86 FR 13803), which directs the Secretary of Education to review the rule entitled “Nondiscrimination on the Basis of Sex in Education Programs or Activities Receiving Federal Financial Assistance,” published in the Federal Register on May 19, 2020 (85 FR 30026), and other agency actions that are or may be inconsistent with governing law, including Title IX, and the Executive order. This hearing is also a step toward fulfilling the directives of Executive Order 13988, Preventing and Combating Discrimination on the Basis of Gender Identity or Sexual Orientation, published in the Federal Register on January 25, 2021 (86 FR 7023).

This section describes the agenda for the hearing, participation opportunities for members of the public, the format of the hearing, and information about the registration process to provide a live comment during the hearing, to submit a written comment, and to attend the hearing to listen to the comments of others.

Agenda: This public hearing is part of OCR's review of the Title IX regulations, including the 2020 amendments to the regulations, and other agency actions related to discrimination in the form of sexual harassment, including sexual violence, in educational environments, and including discrimination based on sexual orientation and gender identity in educational environments.

OCR has a particular interest in receiving live comments through the virtual hearing platform and written comments through the email address provided below on the Title IX regulations related to sexual harassment, including the 2020 amendments to the regulations. We also have a particular interest in receiving comments on discrimination based on sexual orientation and gender identity in educational environments. For participants who choose to address the 2020 amendments to the Title IX regulations related to sexual harassment or other topics, OCR encourages commenters to be as specific and detailed as possible regarding the regulatory provisions they are commenting on and the proposals they would like OCR to consider. Although OCR has a particular interest in receiving comments on the two topics identified above, participants may choose to address any topic regarding Title IX.

For more information about Title IX, please see www2.ed.gov/about/offices/list/ocr/docs/tix_dis.html.

Dates and Times: The public hearing will be held on the following dates and times:

June 7, 2021, from 9:00 a.m. to 5:00 p.m., Eastern time

June 8, 2021, from 9:00 a.m. to 5:00 p.m., Eastern time

June 9, 2021, from 11:00 a.m. to 7:00 p.m., Eastern time

June 10, 2021, from 11:00 a.m. to 7:00 p.m., Eastern time

June 11, 2021, from 9:00 a.m. to 5:00 p.m., Eastern time

Participation Opportunities: Individuals and organizations have two options for participating in this hearing and may choose one or both options: (1) Provide a live comment of up to three minutes during the virtual hearing; and (2) Submit a written comment.

Individuals may also attend the hearing to listen to comments from others. Please note that the transcript of the hearing will be posted to the OCR website as described below.

Format: The hearing will be held in an audio format. Commenters and attendees will not be visible. The hearing will be made available simultaneously in additional formats to enable access for individuals who are deaf or hard of hearing. For those needing additional reasonable accommodations, please see below for further details about how to make such a request. OCR staff members will be present for the entire hearing.

How to Attend the Hearing and Provide Comments: Individuals may (1) register to provide a live comment during the hearing; (2) submit a written comment; and (3) attend the hearing to listen to comments from others.

Live Comments: To request to provide a live comment of three minutes or less during the June 7, 2021 to June 11, 2021 hearing, please use the registration link below to register to provide a live comment on a particular day. The registration form will allow you to indicate the topic on which you wish to offer a live comment and request a specific two-hour window on the particular day during which you would like to offer your comment.

Registration link— https://cvent.me/1w5YWo

Individuals may provide only one live comment. OCR is interested in receiving comments that reflect a wide diversity of viewpoints and experiences. For this reason, we ask that those who are working together on comments avoid duplication of live comments to the extent possible. In recognition that some commenters may want to limit the disclosure of their personal information, the registration form will include instructions for registrants to provide a comment without providing their name.

The registration link is now open. We strongly encourage those who wish to provide a live comment to register promptly. Slots for providing a live comment will be assigned in the order in which requests are received until they are filled. Please note that we have reserved some slots for students and educators, as described below. Even after all slots are filled, we anticipate that a small number of slots may become available prior to or during each day of the hearing as a result of cancellations. We encourage those who do not register in time to receive a hearing slot to recheck the registration link for slots that become available in this way.

If you are assigned a slot to provide a live comment, you will receive an email containing personalized dial-in information, an access code, meeting web link, and the approximate time at which you will have your turn to comment. Commenters may use either the dial-in information or the hearing web link to provide their live comment. Commenters can then rejoin the hearing to listen to comments from others by using the attendee-only link below.

Throughout the hearing, OCR has designated slots for students, educators, and other commenters. We particularly encourage students who wish to provide live comments to register for day two (June 8, 2021) or day three (June 9, 2021) of the hearing. We have reserved a greater number of slots for students on these days. This will help to ensure that students have adequate opportunity to offer their insights and perspectives. We also encourage students whose class schedules impede participation during the hours of the hearing and others who have similar scheduling constraints to participate in the hearing by submitting written comments.

For those who need a reasonable accommodation in order to provide a live comment during the hearing, please see the “Reasonable Accommodations” section below for information about how to make such a request.

American Sign Language translation and closed captioning will be provided to all who attend the hearing using the attendee-only link below.

To Attend the Hearing: If you wish to attend the hearing to listen to comments from others, please visit the link listed below. No registration is required to use this attendee-only link. The attendee-only link will also be posted in OCR's Newsroom each day of the hearing, available at www2.ed.gov/about/offices/list/ocr/newsroom.html.

Attendee-only link— https://cvent.me/8wkwkv.

For those who wish to attend the hearing but do not have access to the internet, please request the dial-in information from the person listed under FOR FURTHER INFORMATION CONTACT in this notice.

To Submit Written Comments: OCR welcomes written comments on the topics for this public hearing. You may send your comments by email to T9PublicHearing@ed.gov. Please do not send comments or other material to other email addresses for OCR or the Department as those materials will not be considered part of the record for this hearing.

Written comments must be received at T9PublicHearing@ed.gov by 5:00 p.m. Eastern time on June 11, 2021, and include the subject line “Written Comment: Title IX Public Hearing (topic of the comment).” The email may include the name(s), occupation, city and State, organization/affiliation (if any), and email address of the person(s) submitting the written comment, along with the comment. Those wishing to maintain their privacy can submit a comment without including personally identifiable information.

Written comments submitted for this hearing are solely for the purpose of informing the Department's review of its regulations, guidance, and other agency actions under Title IX. Written comments will not be treated by OCR as complaints against a school or other recipient of Federal funding. To file a complaint of discrimination with OCR, please visit ocrcas.ed.gov/contact-ocr, or you may file a discrimination complaint by using OCR's online complaint form, available at www2.ed.gov/about/offices/list/ocr/complaintintro.html. OCR also will not notify law enforcement about alleged violations of criminal laws. For assistance with reporting child abuse, sexual violence, or other crimes, please visit www.usa.gov/report-crime.

Access to Records of the Hearing: The Department will post a transcript of this hearing on the OCR website, at www2.ed.gov/about/offices/list/ocr/newsroom.html, within 30 days of the hearing's completion or as soon thereafter as possible. OCR will not make a recording of the hearing in light of the potential sensitivity of some of the topics under discussion and the Department's interest in reducing barriers to participation. If OCR refers in the future to any comment that it receives through this process, it will not share any of the commenter's personally identifiable information without obtaining the commenter's prior consent.

Reasonable Accommodations: The hearing will be accessible to individuals with disabilities. Information for contacting the Department to request auxiliary aids or services to provide a live comment will be included in the registration process for providing a live comment during the hearing. If you will need an auxiliary aid or service to provide your comment, please notify the person listed under FOR FURTHER INFORMATION CONTACT in this notice at least two weeks before the scheduled meeting date so that OCR can ensure that all have access to the hearing, consistent with our Nation's civil rights laws.

Electronic Access to This Document: The official version of this document is the document published in the Federal Register. You may access the official edition of the Federal Register and the Code of Federal Regulations at www.govinfo.gov. At this site, you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Suzanne B. Goldberg,
Acting Assistant Secretary for Civil Rights.

[FR Doc. 2021-10629 Filed 5-19-21; 8:45 am]

BILLING CODE 4000-01-P